DEPARTMENT OF COMMERCE

International Trade Administration

Saint Louis University, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue, NW., Washington, DC.

Docket Number: 10-019.

Applicant: Saint Louis University, St. Louis, MO 63103.

Instrument: Electron Microscope.

Manufacturer: FEI Co., Czech Republic.

Intended Use: See notice at 75 FR 34096, June 16, 2010.

Docket Number: 10-021.

Applicant: South Dakota School of Mines and Technology, St. Rapid City, SD 57701.

Instrument: Electron Microscope.

Manufacturer: JEOL, Japan.

Intended Use: See notice at 75 FR 34095, June 16, 2010.

Docket Number: 10-024.

Applicant: National Institutes of Health, Bethesda, MD 20892-0851.

Instrument: Electron Microscope.

Manufacturer: FEI Co., the Netherlands.

Intended Use: See notice at 75 FR 34095, June 16, 2010.

Docket Number: 10-026.

Applicant: National Institutes of Health, Bethesda, MD 20892-0851.

Instrument: Electron Microscope.

Manufacturer: FEI Co., the Netherlands.

Intended Use: See notice at 75 FR 34095, June 16, 2010.

Comments: None received.

Decision: Approved. No instrument of equivalent scientific value to the foreign instrument, for such purposes as these instruments are intended to be used, was being manufactured in the United States at the time the instruments were ordered.

Reasons: Each foreign instrument is an electron microscope and is intended for research or scientific educational uses requiring an electron microscope. We know of no electron microscope, or any other instrument suited to these purposes, which was being manufactured in the United States at the time of order of each instrument.

Dated: July 13, 2010.
Christopher Cassel,
Director, Subsidies Enforcement Office, Import Administration.

[FR Doc. 2010-17537 Filed 7-16-10; 8:45 am]

BILLING CODE 3510-DS-P